DEPARTMENT OF HEALTH AND HUMAN SERVICES

National Institutes of Health

National Institute of Allergy and Infectious Diseases; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Allergy and Infectious Diseases Special Emphasis Panel; Staged Vaccine Development (BAA).

Date: March 5, 2015.

Time: 10:00 a.m. to 6:00 p.m.

Agenda: To review and evaluate contract proposals.

Place: National Institutes of Health Room 3F40A, 5601 Fisher Lane, Rockville, MD 20892, (Telephone Conference Call).

Contact Person: Robert C. Unfer, Ph.D., Scientific Review Officer Scientific Review Program DEA/NIAID/NIH/DHHS, 5601 Fishers Lane, Room 3F40 MSC 9823, Rockville, MD 20892-9823, 240-669-5035, unferrc@nih.gov.

Name of Committee: National Institute of Allergy and Infectious Diseases Special Emphasis Panel; Immune-Based Antiviral Products for Suppression/Elimination of HIV-1.

Date: March 6, 2015.

Time: 9:30 a.m. to 5:00 p.m.

Agenda: To review and evaluate contract proposals.

Place: National Institutes of Health Room 3F100, 5601 Fisher Lane, Rockville, MD 20892, (Telephone Conference Call).

Contact Person: Roberta Binder, Ph.D., Scientific Review Officer Scientific Review Program Division of Extramural Activities, National Institutes of Health/NIAID, 5601 Fishers Lane Rm 3G21A, Bethesda, MD 20892-7616, 240-669-5050, rbinder@niaid.nih.gov.

(Catalogue of Federal Domestic Assistance Program Nos. 93.855, Allergy, Immunology, and Transplantation Research; 93.856, Microbiology and Infectious Diseases Research, National Institutes of Health, HHS)

Dated: February 9, 2015.
David Clary,
Program Analyst, Office of Federal Advisory Committee Policy.

[FR Doc. 2015-02957 Filed 2-11-15; 8:45 am]

BILLING CODE 4140-01-P